DEPARTMENT OF HOMELAND SECURITY

Transportation Security Administration

Intent To Request Revision From OMB of One Current Public Collection of Information: Aviation Security Customer Satisfaction Performance Measurement Passenger Survey

AGENCY: Transportation Security Administration, DHS.

ACTION: 60-Day notice.

SUMMARY: The Transportation Security Administration (TSA) invites public comment on one currently approved Information Collection Request (ICR), Office of Management and Budget (OMB) control number 1652-0013, that we will submit to OMB for a revision in compliance with the Paperwork Reduction Act (PRA). The ICR describes the nature of the information collection and its expected burden. The collection involves surveying travelers to measure customer satisfaction with their aviation security screening experience in an effort to manage TSA's performance at the airport more efficiently.

DATES: Send your comments by August 1, 2025.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0013; Aviation Security Customer Satisfaction Performance Measurement Passenger Survey. TSA, with OMB's approval, has conducted surveys of passengers at airports nationwide and now seeks approval to continue this effort. The surveys are administered using an intercept methodology. The intercept methodology uses TSA personnel who are not in uniform to approach passengers immediately following their screening experience and offer, but not require, the opportunity to complete a survey. The surveyors will have their identification displayed, showing they are government employees or contractors. TSA uses the intercept methodology to randomly select passengers to complete the survey (such as by approaching one out of every 10 passengers in a given screening area) in an effort to gain survey data representative of the most relevant passenger demographics to capture data from a wide range of passengers, including passengers who—

• Travel on weekdays or weekends;

• Travel in the morning, mid-day, or evening;

• Pass through each of the different security screening locations in the airport;

• Are subject to more intensive screening of their baggage or person; and

• Experience different volume conditions and wait times as they proceed through the security checkpoints.

Each survey includes no more than 10 questions. All questions concern aspects of the passenger's security screening experience and are designed to help TSA identify areas in need of improvement. Participation is always voluntary.

Before each survey collection at an airport, TSA personnel determine whether to offer individuals a chance to participate using a printed card, an online portal accessed with a QR code link, or using a tablet or similar device. The method selected is usually based on the objective of a particular collection. For example, if internet access is limited, a paper-based survey would be more appropriate than using tablets displaying an online survey. Passengers may be given an opportunity to respond in writing to the survey questions on the customer satisfaction card and depositing the card in a drop-box at the airport. In other situations, passengers may be provided an opportunity to follow a QR code link to an online survey or following a link listed on a printed card to an online survey).

Section 3(c) of Executive Order 14168 of January 20, 2025 (Defending Women from Gender Ideology Extremism and Restoring Biological Truth to the Federal Government) requires Federal agencies to use the term “sex” and not “gender” in all applicable agency policies and documents. In compliance with this section of the Executive Order, TSA is revising the collection by removing the optional question which uses the term “gender.” TSA is requesting approval of the revision of the information collection.

TSA personnel have the capability to conduct this survey at approximately 25 airports each year. Based on prior survey data and research, TSA estimates 384 responses from the passengers at each airport. The average number of respondents is estimated to be 9,600 per year (384 passengers × 25 airports). TSA estimates that the time it takes to complete the survey either online or by writing on the form ranges from 3 to 7 minutes, with an average of 5 minutes (0.083 hours) per respondent. Therefore, the annual burden is 800 hours (9,600 responses × 0.083 hours).

Dated: May 28, 2025.
Christina A. Walsh,
Paperwork Reduction Act Officer, Office of Information Technology, Transportation Security Administration.

[FR Doc. 2025-09949 Filed 5-30-25; 8:45 am]

BILLING CODE 9110-05-P